FEDERAL COMMUNICATIONS COMMISSION

47 CFR Part 73

[DA 00-2592, MM Docket No. 00-140; RM-9916]

Digital Television Broadcast Services; Scottsbluff, NE

AGENCY: Federal Communications Commission.

ACTION: Final rule.

SUMMARY: The Commission, at the request of Duhamel Broadcasting Enterprises, licensee of station KDUH-TV, substitutes DTV channel 7 for DTV channel 20 at Scottsbluff, Nebraska. See 65 FR 51277, August 23, 2000. DTV channel 7 can be allotted to Scottsbluff at coordinates (42-10-21 N. and 103-13-57 W.) with a power of 32.4, HAAT of 592 meters and with a DTV service population of 95 thousand. With this action, this proceeding is terminated.

DATES: Effective January 9, 2001.

FOR FURTHER INFORMATION CONTACT: Pam Blumenthal, Mass Media Bureau, (202) 418-1600.

SUPPLEMENTARY INFORMATION: This is a synopsis of the Commission's Report and Order, MM Docket No. 00-140, adopted November 22, 2000, and released November 24, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Nebraska, is amended by removing DTV Channel 20 and adding DTV Channel 7 at Scottsbluff.

Federal Communications Commission.
Barbara A. Kreisman,
Chief, Video Services Division, Mass Media Bureau.

[FR Doc. 00-30014 Filed 11-22-00; 8:45 am]

BILLING CODE 6712-01-P